Executive Order 13146 of February 29, 2000

President's Council on the Future of Princeville,

North Carolina

By the authority vested in me as President by the Constitution and the laws of the United States of America, and in order to develop recommendations for Federal agency actions to address the future of Princeville, North Carolina, it is hereby ordered as follows:

Section 1. Policy. Princeville, North Carolina (Princeville) has a unique place in American history. This small city in eastern North Carolina was the first city in the United States founded by ex-slaves. In its history, Princeville has been damaged by floods many times. Recently, it was devastated by floods caused by Hurricane Floyd. In response to the damage, appropriate Federal agencies have already begun repair and recovery efforts to assist Princeville. However, it is the policy of this Administration to do more to help this city that occupies such a significant place in our history. Therefore, this order will create an interagency council to develop recommendations for further actions to address the future of Princeville.

Sec. 2. Establishment. (a) There is established the “President's Council on the Future of Princeville, North Carolina” (Council). The Council shall comprise the Secretaries of Defense, Agriculture, Commerce, Labor, Health and Human Services, Housing and Urban Development, Transportation, the Director of the Office of Management and Budget (OMB), the Administrator of the Environmental Protection Agency, the Commander of the Army Corps of Engineers, the Administrator of the Small Business Administration, the Director of the Federal Emergency Management Agency, the Assistant to the President for Domestic Policy, the Assistant to the President for Economic Policy, and the Assistant to the President for Intergovernmental Affairs, or their designees, and such other executive department and agency (agencies) representatives as the President may deem appropriate. The Council shall consult with other agencies and State and local governments, as appropriate.

(b) The Director of the Office of Management and Budget, or his designee, shall serve as Chair of the Council.

Sec. 3. Functions. The Council shall develop recommendations for the President on further agency and legislative actions that can be undertaken to address the future of Princeville. In developing the recommendations, the Council shall consider, among other things: (a) the unique historic and cultural importance of Princeville in American history; (b) the views and recommendations of the relevant State and local governments, the private sector, citizens, community groups, and non-profit organizations, on actions that they all could take to enhance the future of Princeville and its citizens; and (c) agency assessments and recommendations to repair and rebuild Princeville, and, to the extent practicable, protect Princeville from future floods. The Council, through its Chair, shall submit its recommendations to the President. Where appropriate, the Council's recommendations shall include draft legislation requesting additional funding or other authorities to aid in the reconstruction and protection of Princeville.

Sec. 4. Coordination. At the request of the Chair, agencies shall cooperate with and provide information to the Council.

Sec. 5. Judicial Review. This order is not intended to, nor does it create, any right or benefit, substantive or procedural, enforceable at law by a party against the United States, it agencies, its officers or employees, or any other person.

wj

THE WHITE HOUSE,

February 29, 2000.

[FR Doc. 00-5209

Filed 3-1-00; 8:45 am]

Billing code 3195-01-P